DEPARTMENT OF TRANSPORTATION

Federal Aviation Administration

Notice Suspending Implementation of the Environmental Impact Statement and Record of Decision for the Philadelphia International Airport Capacity Enhancement Program

AGENCY: Federal Aviation Administration (FAA) DOT.

ACTION: Suspending implementation of the Environmental Impact Statement (EIS) and Record of Decision (ROD) for the Philadelphia International Airport (PHL) Capacity Enhancement Program (CEP).

SUMMARY: The FAA is suspending further implementation of the December 2010 ROD for the Philadelphia International Airport (PHL) CEP. Due to unforeseen changes in operations at PHL, several of the airfield capacity enhancing components identified in the CEP ROD are not needed at this time. When the CEP ROD was issued, operations at PHL were forecasted to reach 555,112 in 2016 and 699,799 in 2025. PHL was consistently ranked as one of the most delayed airports in the nation. Delays at PHL contributed to delays throughout the region and across the nation and were resulting in substantial costs in time and money for passengers and airlines. However, unforeseen changes in the aviation industry and aircraft activity have resulted in considerably less activity at PHL. Actual operations at PHL in 2016 were 394,022, nearly thirty percent lower than originally forecasted. PHL is no longer experiencing severe congestion or significant delays. Over recent years, there has been no indication or reason to believe that forecasted operations and associated delays at PHL will reach the level experienced at the time FAA approved the CEP ROD. Since there is no longer a foreseeable need for additional capacity at PHL, the airport sponsor, the City of Philadelphia, has elected to postpone several of the major components of CEP, including construction of the new southern runway and the extension of Runway 8/26. In support of this decision, the FAA is suspending the ROD for the PHL CEP. Projects currently underway will continue to completion. As circumstances change and new projects are proposed, environmental analyses for those projects will be conducted in accordance with the National Environmental Policy Act (NEPA).

DATES: Applicable upon publication in the Federal Register.

FOR FURTHER INFORMATION CONTACT: Susan L. McDonald, Environmental Protection Specialist, Federal Aviation Administration, Harrisburg Airports District Office, 3905 Hartzdale Drive, Suite 508, Harrisburg, PA 17011.

SUPPLEMENTARY INFORMATION: In 2003, the City of Philadelphia, the airport sponsor, who owns and operates PHL, asked FAA to consider ways to accommodate existing and forecasted aviation demands. PHL was one of the airports contributing to delays throughout the national airspace system, with delays approaching 20 minutes per average annual operation. Operations (aircraft takeoffs and landings) at PHL were increasing and forecasted to reach 555,112 in 2016 and 699,799 in 2025. Delays at PHL were attributed to airfield configuration deficiencies and operational constraints; particularly in poor weather conditions. The purpose of the CEP was to enhance airport capacity in order to accommodate current and future aviation demand in the Philadelphia Metropolitan Area during all weather conditions. The FAA signed the ROD for the CEP on December 30, 2010.

The CEP was designed to provide PHL with five runways connected by a redesigned and more efficient taxiway system. Under CEP, Runway 17/35 would remain as a 6,500-foot-long crosswind runway. Runway 8/26 would be extended 2,000 feet to the east, for a total length of 7,000 feet with an Engineered Materials Arresting System (EMAS) constructed at the east end of the runway. Runway 9L/27R would remain at its current length (9,500 feet) and location. Runway 9R/27L would be extended to the east by 1,500 feet, to a total length of 12,000 feet, and would be renamed Runway 9C/27C. A new 9,103-foot-long runway, Runway 9R/27L, would be constructed 1,600 feet south of Runway 9C/27C (existing 9R/27L). All existing navigational aids would be relocated as necessary, or new navigational aids installed as required to meet the approach criteria for the particular runway end. The CEP included upgrades and reconfigurations to the existing terminal complex, and the addition of a new commuter terminal east of Runway 17/35. An automated people mover (APM) was to be constructed to transport passengers between terminals and parking facilities. The CEP would also have required the relocation or expansion of many of the other airport facilities, including cargo, general aviation (corporate), maintenance, fuel, training facilities, and deicing facilities. The FAA's Air Traffic Control Tower (ATCT) was also to be relocated. In order to accommodate the CEP, several off-airport facilities and properties needed to be acquired or, in some cases, relocated.

The City of Philadelphia has actively worked to implement the various components of the CEP since 2010. To date, the City has acquired several parcels of land, constructed taxiway improvements, and begun work on extending Runway 9R/27L. During this period, changes in both the aviation industry and aviation activity have resulted in reductions in the number of operations at PHL. Although enplanements at PHL have remained steady, the number of aircraft takeoffs and landings has decreased. In 2016, annual operations at PHL were 394,022; nearly 30 percent lower than forecasted. This decrease in operations is attributed to airlines using larger planes that can seat more passengers, general aviation activity shifting to other regional airports, and consolidations within the airline industry, such as the merger of US Airways and American Airlines. This unforeseen drop in operations has resulted in the airport sponsor realigning its capital improvement program to address more immediate needs at the airport, and indefinitely deferring the construction of the southern runway and the Runway 8/26 extension. For these reasons, implementation of the ROD for the PHL CEP is being suspended. Projects currently underway at PHL will continue to completion. As circumstances change and new projects are proposed, environmental analyses for the projects will be conducted in accordance with NEPA.

FOR FURTHER INFORMATION CONTACT: Susan McDonald, Environmental Protection Specialist, Federal Aviation Administration, Harrisburg Airports District Office, 3905 Hartzdale Drive, Suite 508, Camp Hill, PA 17011, Telephone (717) 730-2841.

Issued in Camp Hill, Pennsylvania, October 3, 2017.
Lori Pagnanelli,
Manager, Harrisburg Airports District Office.

[FR Doc. 2017-21880 Filed 10-10-17; 8:45 am]

BILLING CODE 4910-13-P